DEPARTMENT OF ENERGY

Federal Energy Regulatory Commission

Sunshine Act Meeting Notice

The following notice of meeting is published pursuant to section 3(a) of the government in the Sunshine Act (Pub. L. 94-409), 5 U.S.C. 552b:

TIME AND DATE: December 17, 2015, 10 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary. Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1022st—Meeting, Regular Meeting
[December 17, 2015, 10 a.m.]
Item No. | Docket No. | Company
ADMINISTRATIVE
A-1 | AD16-1-000 | Agency Administrative Matters.
A-2 | AD16-7-000 | Customer Matters, Reliability, Security and Market Operations.
ELECTRIC
E-1 | RM16-3-000 | Ownership Information in Market-Based Rate Filings.
E-2 | OMITTED
E-3 | ER15-861-006 | California Independent System Operator Corporation.
E-4 | ER15-1196-002 | Nevada Power Company.
E-5 | EL15-102-000 | DCR Transmission, LLC.
E-6 | EL14-22-000 | California Independent System Operator Corporation.
E-7 | ER15-2377-000 | Southwest Power Pool, Inc.
| EL14-27-000
E-8 | ER15-2256-000 | Midcontinent Independent System Operator, Inc.
| EL14-25-000
E-9 | ER16-118-000 | Midcontinent Independent System Operator, Inc. and ALLETE, Inc.
E-10 | ER15-548-001 | Midcontinent Independent System Operator, Inc.
E-11 | ER12-2302-002 | Midwest Independent Transmission System Operator, Inc.
| ER12-2302-003
E-12 | ER12-2708-002 | PJM Interconnection, LLC and Potomac-Appalachian Transmission Highline, L.L.C.
| ER09-1256-001 (consolidated)
E-13 | ER10-1350-001 | Entergy Services, Inc.
E-14 | RC15-1-000 | Southern California Edison Company.
E-15 | EL10-65-004 | Louisiana Public Service Commission v.
|  | Entergy Corporation.
|  | Entergy Services, Inc.
|  | Entergy Louisiana, LLC.
|  | Entergy Arkansas, Inc.
|  | Entergy Mississippi, Inc.
|  | Entergy New Orleans, Inc.
|  | Entergy Gulf States Louisiana, L.L.C.
|  | Entergy Texas, Inc.
E-16 | EL15-94-000 | Shell Energy North America (US), L.P. v. California Independent System Operator Corporation.
GAS
G-1 | RM15-20-000 | Five-Year Review of the Oil Pipeline Index.
HYDRO
H-1 | P-349-173 | Alabama Power Company.
H-2 | P-2210-252 | Appalachian Power Company.
CERTIFICATES
C-1 | CP14-119-000 | Trunkline Gas Company, LLC.
| CP14-120-000 | Lake Charles LNG Export Company, LLC and Lake Charles LNG Company, LLC.
| CP14-122-000 | Lake Charles LNG Company, LLC.
C-2 | CP15-523-000 | American Midstream (Midla), LLC.
C-3 | CP14-501-000 | National Fuel Gas Supply Corporation.
C-4 | CP15-90-000 | Texas Eastern Transmission, LP.
C-5 | CP15-132-000 | Kern River Gas Transmission Company.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Issued: December 10, 2015.
Nathaniel J. Davis, Sr.,
Deputy Secretary.

[FR Doc. 2015-31605 Filed 12-11-15; 4:15 pm]

BILLING CODE 6717-01-P